DEPARTMENT OF THE INTERIOR

Fish and Wildlife Service

Notice of Availability of a Draft Environmental Assessment of the Addition of Blue-Fronted Amazon Parrots (Amazona aestiva) From a Sustainable Use Management Plan in Argentina to the Approved List of Non-Captive-Bred Birds Under the Wild Bird Conservation Act of 1992

AGENCY: Fish and Wildlife Service, Interior.

ACTION: Notice of availability of a draft Environmental Assessment.

SUMMARY: The public is invited to comment on the draft Environmental Assessment of the addition of blue-fronted amazon parrots (Amazona aestiva) from a sustainable use management plan in Argentina to the approved list of non-captive-bred birds under the Wild Bird Conservation Act of 1992 (WBCA). We have prepared a draft Environmental Assessment under regulations implementing the National Environmental Policy Act of 1969 (NEPA). Council on Environmental Quality regulations in 40 CFR 1501.3(b) state that an agency “may prepare an environmental assessment on any action at any time in order to assist agency planning and decision making.” Future regulations implementing the WBCA may be subject to NEPA documentation requirements on a case-by-case basis.

DATES: Written data, comments, or requests for a copy of this draft Environmental Assessment must be received by February 7, 2003.

ADDRESSES: Written data, comments, or requests for a copy of this draft Environmental Assessment should be sent to the Chief, U.S. Fish and Wildlife Service, Division of Management Authority, 4401 North Fairfax Drive, Room 700, Arlington, Virginia 22203.

FOR FURTHER INFORMATION CONTACT: Andrea Gaski, Chief, Branch of Operations, Division of Management Authority, at 703-358-2095.

SUPPLEMENTARY INFORMATION:

Background

The WBCA, which was signed into law on October 23, 1992, limits or prohibits imports of exotic bird species to ensure that their wild populations are not harmed by trade. It also encourages wild bird conservation programs in countries of origin by ensuring that all imports of such species into the United States are biologically sustainable and not detrimental to the survival of the species. A final rule published in the Federal Register on November 16, 1993 (58 FR 60524), implemented the prohibitions stipulated in the WBCA and provided permit requirements and procedures for some allowed exemptions.

Since the publication of the final rule of November 16, 1993, imports of all birds listed in the Appendices of the Convention on International Trade in Endangered Species of Wild Fauna and Flora (CITES) as defined in the final rule are prohibited, except for (a) species included in an approved list; (b) specimens for which an import permit has been issued; (c) species from countries that have approved sustainable use management plans for those species; or (d) specimens from approved foreign captive-breeding facilities. We published a proposed rule in the Federal Register on March 17, 1994 (59 FR 12784), that would implement procedures for the establishment of an approved list of captive-bred species listed in the CITES Appendices that can be imported without a WBCA permit, criteria for including non-captive-bred (wild-caught) species in the approved list, and approval of foreign captive-breeding facilities.

A final rule published on January 24, 1996 (61 FR 2084), implemented procedures for the establishment of an approved list of non-captive-bred (wild-caught) species listed in the CITES Appendices that could be imported. The list of approved non-captive-bred species is contained in 50 CFR 15.33(b). For wild-caught CITES-listed birds to be on the approved list, we must determine that CITES is being effectively implemented for the species for each country of origin from which imports will be allowed, CITES-recommended measures are implemented, and there is a scientifically based management plan for the species that is adequately implemented and enforced. The scientifically based management plan must: (a) Provide for the conservation of the species and its habitat; (b) include incentives for conservation; (c) ensure that the use of the species is biologically sustainable and is well above the level at which the species might become threatened; (d) ensure that the species is maintained throughout its range at a level consistent with its role in the ecosystem; (e) address factors that include illegal trade, domestic trade, subsistence use, disease, and habitat loss; and (f) ensure that the methods of capture, transport, and maintenance of the species minimize the risk of injury or damage to health. For a species with a multinational distribution, we must also consider (a) whether populations of the species in other countries will be detrimentally affected by exports from the country requesting approval; (b) whether factors affecting conservation of the species are regulated throughout its range so that recruitment and/or breeding stocks will not be detrimentally affected by the proposed export; (c) whether the projected take and export will detrimentally affect breeding populations; and (d) whether the projected take and export will detrimentally affect existing enhancement activities, conservation programs, or enforcement efforts throughout the species' range. A species and country of export listed in 50 CFR 15.33(b) may be approved for three years, after which time the Service will have an opportunity to consider renewal of the approval.

On August 10, 2000, we published in the Federal Register (65 FR 49007) a notice of receipt of application for approval of a petition from the Management Authority of Argentina, Direccion de Fauna and Flora Silvestre, requesting that blue-fronted amazon parrots (Amazona aestiva) from an Argentine sustainable use management plan be added to the list of approved non-captive-bred species under the WBCA. We accepted comments on that petition until October 11, 2000.

Approval of Argentina's petition would result in the need to amend 50 CFR 15.33(b) by adding blue-fronted amazon parrots from Argentina to the list of approved non-captive-bred species. The amendment would allow the import into the United States of blue-fronted amazon parrots removed from the wild in Argentina under an approved sustainable use management plan, without a WBCA import permit. Along with this notice of availability, we will publish a proposed rule to allow the import into the United States of blue-fronted amazon parrots (Amazona aestiva) removed from the wild in Argentina under their approved sustainable use management plan.

Comments on the draft Environmental Assessment will be considered in our decision regarding whether to amend 50 CFR 15.33(b) by adding blue-fronted amazon parrots from Argentina to the list of approved non-captive-bred species. Written comments we have already received in response to the August 10, 2000, notice of receipt of application, have been retained and will be considered during this open comment period. Although we have used information already received in formulating the draft Environmental Assessment, we will address that information as well as any new comments received in our final Environmental Assessment, if necessary.

Dated: January 3, 2003.
Peter O. Thomas,
Chief, Division of Management Authority.

[FR Doc. 03-345 Filed 1-7-03; 8:45 am]

BILLING CODE 4310-55-P